DEPARTMENT OF THE TREASURY

Fiscal Service

Surety Companies Acceptable on Federal Bonds: Liquidation—the Connecticut Surety Company

AGENCY: Financial Management Service, Fiscal Service, Department of the Treasury.

ACTION: Notice.

SUMMARY: Liquidation of an insurance company formerly certified by this Department as an acceptable surety/reinsurer on Federal bonds.

FOR FURTHER INFORMATION CONTACT: Surety Bond Branch at (202) 874-6850.

SUPPLEMENTARY INFORMATION: The Connecticut Surety Company, a Connecticut company, formerly held a Certificate of Authority as an acceptable surety on Federal bonds and was last listed as such at 64 FR 35871, July 1, 1999. The Company's authority was terminated by the Department of the Treasury effective March 9, 2000. Notice of the termination was published in the Federal Register of March 21, 2000, on page 15196.

On May 17, 2002, upon a petition by the Insurance Commissioner of the State of Connecticut, the Superior Court of the Judicial District of Hartford, issued an Order of Liquidation with respect to The Connecticut Surety Company. Susan F. Cogswell, Insurance Commissioner of the State of Connecticut, and her successors in office were appointed as the Liquidator. All persons having claims against The Connecticut Surety Company must file their claims by November 15, 2002, or be barred from sharing in the distribution of assets.

All claims must be filed in writing and shall set forth the amount of the claim, the facts upon which the claim is based, and priorities asserted, and any other pertinent facts to substantiate the claim. Federal Agencies should assert claim priority status under 31 U.S.C. 3713, and send a copy of their claim, in writing, to: Department of Justice, Civil Division, Commercial Litigation Branch, P.O. Box 875, Ben Franklin Station, Washington, D.C. 20044-0875, Attn: Mr. Randy Harwell, Attorney.

The above office will consolidate and file any and all claims against The Connecticut Surety Company, on behalf of the United States Government. Any questions concerning filing of claims may be directed to Mr. Harwell at (202) 307-0180.

The Circular may be viewed and downloaded through the Internet (http://www.fms.treas.gov/c570/index.html). A hard copy may be purchased from the Government Printing Office (GPO), Subscription Service, Washington, DC, (202) 512-1800. When ordering the Circular from GPO, use the following stock number 048-000-00536-5.

Questions concerning this notice may be directed to the U.S. Department of the Treasury, Financial Management Service, Financial Accounting and Services Division, Surety Bond Branch, 3700 East-West Highway, Room 6F04, Hyattsville, MD 20782.

Dated: July 30, 2002.
Wanda Rogers,
Director, Financial Accounting and Services, Division Financial Management Service.

[FR Doc. 02-19700 Filed 8-2-02; 8:45 am]

BILLING CODE 4810-35-M